DEPARTMENT OF COMMERCE

National Oceanic and Atmospheric Administration

RIN 0648-XE010

Caribbean Fishery Management Council; Public Meeting

AGENCY: National Marine Fisheries Service (NMFS), National Oceanic and Atmospheric Administration (NOAA), Commerce.

ACTION: Notice of public meetings.

SUMMARY: The Caribbean Fishery Management Council's District Advisory Panels (DAPs) for Puerto Rico, St. Croix and St. Thomas, USVI, will hold meetings.

Dates and Addresses: The meetings will be held on the following dates and locations:

Puerto Rico DAP: July 29, 2015, from 9 a.m. to 5 p.m., at the Verdanza Hotel, Tartak St., Isla Verde, Puerto Rico.

St. Croix, USVI DAP: July 20, 2015, from 1 p.m. to 5 p.m., and July 21, from 9 a.m. to 12 p.m., at the Buccaneer Hotel, Estate Shoys, Christiansted, St. Croix, USVI.

St. Thomas, USVI DAP: July 22, from 9 a.m. to 5 p.m., at the Windward Passage Hotel, Charlotte Amalie, St. Thomas, USVI.

FOR FURTHER INFORMATION CONTACT: Caribbean Fishery Management Council, 270 Muñoz Rivera Avenue, Suite 401, San Juan, Puerto Rico 00918; telephone: (787) 766-5926.

SUPPLEMENTARY INFORMATION: The DAPs will meet to discuss the items contained in the following agenda:

—Call to Order

—Adoption of Agenda

—SSC Chair Presentation on Selection Criteria and Results of Experts Panel Meeting

—Species Selection Discussion

—Recommendations to CFMC

—Other Business

—Adjourn

The meetings are open to the public, and will be conducted in English. Fishers and other interested persons are invited to attend and participate with oral or written statements regarding agenda issues.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: June 29, 2015.
Tracey L. Thompson,
Acting Deputy Director, Office of Sustainable Fisheries, National Marine Fisheries Service.

[FR Doc. 2015-16325 Filed 7-1-15; 8:45 am]

BILLING CODE 3510-22-P